DEPARTMENT OF DEFENSE

Department of the Army

[Docket ID: USA-2008-0034]

Privacy Act of 1974; System of Records

AGENCY: Department of the Army, DoD.

ACTION: Notice to Amend a System of Records.

SUMMARY: The Department of the Army is amending a system of records notice in its existing inventory of record systems subject to the Privacy Act of 1974 (5 U.S.C. 552a), as amended.

DATES: This proposed action will be effective without further notice on August 25, 2008 unless comments are received which result in a contrary determination.

ADDRESSES: Department of the Army, Freedom of Information/Privacy Division, U.S. Army Records Management and Declassification Agency, 7701 Telegraph Road, Casey Building, Suite 144, Alexandria, VA 22325-3905.

FOR FURTHER INFORMATION CONTACT: Ms. Vicki Short at (703) 428-6508.

SUPPLEMENTARY INFORMATION: The Department of the Army systems of records notices subject to the Privacy Act of 1974 (5 U.S.C. 552a), as amended, have been published in the Federal Register and are available from the address above.

The specific changes to the record system being amended are set forth below followed by the notice, as amended, published in its entirety. The proposed amendments are not within the purview of subsection (r) of the Privacy Act of 1974 (5 U.S.C. 552a), as amended, which requires the submission of a new or altered system report.

Dated: July 17, 2008.
Patricia L. Toppings,
OSD Federal Register Liaison Officer, Department of Defense.

A0056-9 TRADOC

System name:

Marine Qualification Records (October 16, 2000, 65 FR 61150).

Changes:

* * * * *

System location:

Delete entry and replace with “Director, Office of the Chief of Transportation, 705 Read Street, Room 231, Fort Eustis, VA 23604-5407.”

* * * * *

Authority for maintenance of the system:

Delete entry and replace with “10 U.S.C. 3013, Secretary of the Army; Army Regulation 56-9, Watercraft; and E.O. 9397 (SSN).”

* * * * *

Storage:

Delete entry and replace with “Paper records in file folders and electronic storage media.”

* * * * *

Safeguards:

Delete entry and replace with “Records are maintained in locked file cabinets in a secure building and are accessible only to authorized personnel.”

* * * * *

System manager(s) and address:

Delete entry and replace with “Director, Office of the Chief Transportation, 705 Read Street, Room 231, Fort Eustis, VA 23604-5407.”

Notification procedure:

Delete entry and replace with “Individuals seeking to determine whether information about themselves is contained in this system should address written inquiries to the Director, Office of the Chief Transportation, 705 Read Street, Room 231, Fort Eustis, VA 23604-5407.

Individual should furnish name, Social Security Number, address and enough pertinent details that will facilitate locating the information. Request must be signed.”

Record access procedures:

Delete entry and replace with “Individuals seeking access to information about themselves contained in this system should address written inquiries to the Director, Office of the Chief Transportation, 705 Read Street, Room 231, Fort Eustis, VA 23604-5407.

Individual should furnish name, Social Security Number, address and enough pertinent details that will facilitate locating the information. Request must be signed.”

* * * * *

A0056-9 TRADOC

System name:

Marine Qualification Records.

System location:

Director, Office of the Chief of Transportation, 705 Read Street, Room 231, Fort Eustis, VA 23604-5407.

Categories of individuals covered by the system:

Military and civilian employees of the Army.

Categories of records in the system:

Marine Service Record (DA Form 3068-1), individual's request for examination, test results, character and suitability statements, physical qualification reports, experience qualifications and evaluations, commander's recommendation, Marine Qualification Board recommendation and final action thereon, U.S. Army Marine Licenses (DA Forms 4309 and 4309-1), and similar relevant documents.

Authority for maintenance of the system:

10 U.S.C. 3013, Secretary of the Army; Army Regulation 56-9, Watercraft; and E.O. 9397 (SSN).

Purpose(s):

To evaluate and recommend appropriate action concerning the issuance, denial, suspension, or revocation of U.S. Army Marine Licenses; to award certification to individuals passing the marine qualification examination; to monitor test content and procedures to ensure that tests are valid and current; to award Special Qualification Identifiers to appointed Marine Qualification Field Examiners; to review marine casualty reports, incident reports, and investigations to re-evaluate qualifications of persons involved; and to maintain Marine Service Records.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The U.S. Coast Guard, Department of Transportation may be furnished information concerning certification and licensing of individuals.

The DoD `Blanket Routine Uses' set forth at the beginning of the Army's compilation of system of record notices apply to this record system.

Policies and practices for storing, retrieving, accessing, retaining, and disposing of records in the system:

Storage:

Paper records in file folders and electronic storage media.

Retrievability:

By individual's surname and Social Security Number.

Safeguards:

Records are maintained in locked file cabinets in a secure building and are accessible only to authorized personnel.

Retention and disposal:

DA Form 3068-1 and related records are maintained for 40 years then destroyed. Registers are destroyed 40 years after the date of the last entry in the register.

System manager(s) and address:

Director, Office of the Chief Transportation, 705 Read Street, Room 231, Fort Eustis, VA 23604-5407.

Notification procedure:

Individuals seeking to determine whether information about themselves is contained in this system should address written inquiries to the Director, Office of the Chief Transportation, 705 Read Street, Room 231, Fort Eustis, VA 23604-5407.

Individual should furnish name, Social Security Number, address and enough pertinent details that will facilitate locating the information. Request must be signed.

Record access procedures:

Individuals seeking access to information about themselves contained in this system should address written inquiries to the Director, Office of the Chief Transportation, 705 Read Street, Room 231, Fort Eustis, VA 23604-5407.

Individual should furnish name, Social Security Number, address and enough pertinent details that will facilitate locating the information. Request must be signed.

Contesting record procedures:

The Army's rules for accessing records, and for contesting contents and appealing initial agency determinations are contained in Army Regulation 340-21; 32 CFR part 505; or may be obtained from the system manager.

Record source categories:

From the individual, military and civilian personnel records and reports, civilian maritime records, U.S. Coast Guard, commanders and vessel masters, and other appropriate sources able to furnish relevant information.

Exemptions claimed for the system:

None.

[FR Doc. E8-17009 Filed 7-24-08; 8:45 am]

BILLING CODE 5001-06-P